DEPARTMENT OF JUSTICE

Notice of Lodging of Consent Decree Under the Comprehensive Environmental Response, Compensation and Liability Act

In accordance with the Departmental Policy, 28 CFR 50.7, notice is hereby given that a Consent Decree in United States v. Liberty Property Trust, Liberty Property Development Corp., Liberty Property Limited Partnership, Rouse & Associates—1180 Church Road, Rouse & Associates—1180 Church Road Limited Partnership, and 900 Church Road Land Limited Partnership (“Settling Defendants”), Civil Action No. 02-6896, was lodged with the United States District Court for the Eastern District of Pennsylvania on August 23, 2002. This Consent Decree resolves claims of the United States against the Settling Defendants under section 107(a) of the Comprehensive Environmental Response, Compensation and Liability Act (“CERCLA”), 42 U.S.C. 9607(a). The Consent Decree requires the Settling Defendants to pay $83,750 in reimbursement of past response costs for the North Penn Area Seven Superfund Site located in Lansdale Borough and Upper Gwnyedd Township, Montgomery County, Pennsylvania.

The Department of Justice will accept written comments on the proposed Consent Decree for thirty (30) days from the date of publication of this notice. Please address comments to the Assistant Attorney General, Environment and Natural Resources Division, Department of Justice, PO Box 7611, Ben Franklin Station, Washington, DC 20044-7611, and refer to United States v. Liberty Property Trust, Liberty Property Development Corp., Liberty Property Limited Partnership, Rouse & Associates—1180 Church Road, Rouse & Associates—1180 Church Road Limited Partnership, and 900 Church Road Land Limited Partnership, DOJ #90-11-2-06024/7.

Copies of the proposed Consent Decree may be examined at the Office of the United States Attorney, Eastern District of Pennsylvania, 615 Chestnut Street, Philadelphia, PA 19106 and at EPA Region III, 1650 Arch Street, Philadelphia, PA 19103. A copy of the proposed Consent Decree may be obtained by mail from the U.S. Department of Justice, Consent Decree Library, PO Box 7611, Washington, DC 20044-7611. When requesting a copy of the proposed Consent Decree, please enclose a check to cover the twenty-five cents per page reproduction costs payable to the “U.S. Treasury” in the amount of $6.00 (for Decree without appendices) or $78.25 (for Decree with appendices) and please reference United States v. Liberty Property Trust, Liberty Property Development Corp., Liberty Property Limited Partnership, Rouse & Associates—1180 Church Road, Rouse & Associates—1180 Church Road Limited Partnership, and 900 Church Road Land Limited Partnership, DOJ #90-11-2-06024/7.

Robert Brook,
Assistant Section Chief, Environmental Enforcement Section, Environment and Natural Resources Division, Department of Justice

[FR Doc. 02-22642 Filed 9-5-02; 8:45 am]

BILLING CODE 4410-15-M